NUCLEAR WASTE TECHNICAL REVIEW BOARD

Repository Development; Yucca Mountain, NV

Board Meeting: January 24, 2007—Las Vegas, Nevada.

The U.S. Nuclear Waste Technical Review Board will meet to discuss U.S. Department of Energy efforts to develop the proposed Yucca Mountain repository.

Pursuant to its authority under section 5051 of Public Law 100-203, Nuclear Waste Policy Amendments Act of 1987, the U.S. Nuclear Waste Technical Review Board will meet in Las Vegas, Nevada, on Wednesday, January 24, 2007. The meeting agenda will include updates on Department of Energy (DOE) technical and scientific activities to the proposed repository for spent nuclear fuel and high-level radioactive waste at Yucca Mountain in Nevada. The meeting will be open to the public, and opportunities for public comment will be provided. The Board is charged by Congress with reviewing the technical and scientific validity of activities undertaken by DOE related to nuclear waste disposal as stipulated in the Nuclear Waste Policy Amendments Act of 1987.

The meeting is scheduled to begin at 8 a.m. and to continue until approximately 6 p.m. It will be held at the Atrium Suites Hotel; 4255 South Paradise Road; Las Vegas, NV 89109; (tel.) 702-369-4400; (fax) 702-369-3770.

A final agenda detailing meeting times, topics, and participants will be available approximately one week before the meeting data. Copies of the meeting agenda can be requested by telephone or obtained from the Board's Web site at nwtrb.gov.

Time will be set aside at the end of the day for public comments. Those wanting to speak are encouraged to sign the “Public Comment Register” at the check-in table. A time limit may have to be set on individual remarks, but written comments of any length may be submitted for the record. Interested parties also will have the opportunity to submit questions in writing to the Board. As time permits, submitted questions relevant to the discussion may be asked by Board members.

Transcripts of the meetings will be available on the Board's Web site, by e-mail, on computer disk, and on a library-loan basis in paper format from Davonya Barnes of the Board's staff, beginning on February 19, 2007.

A block of rooms has been reserved at the Atrium Suites Hotel for meeting participants. When making a reservation, please state that you are attending the Nuclear Waste Technical Review Board meeting. Reservations should be made by January 8, 2007, to ensure receiving the meeting rate.

For more information, please contact Karyn Severson, NWTRB External Affairs; 2300 Clarendon Boulevard; Suite 1300; Arlington, VA 22201-3367; (tel.) 703-235-4473; (fax) 703-235-4495.

Dated: December 8, 2006.
William D. Barnard,
Executive Director, Nuclear Waste Technical Review Board.

[FR Doc. 06-9650 Filed 12-12-06; 8:45 am]

BILLING CODE 6820-AM-M